NATIONAL AERONAUTICS AND SPACE ADMINISTRATION

[Notice 02-023]

Notice of Prospective Patent License

AGENCY: National Aeronautics and Space Administration.

ACTION: Notice of prospective patent license.

SUMMARY: NASA hereby gives notice that Advanced Hi-Temp Strain Sensors of San Diego, California, has applied for an exclusive license to practice the invention described and claimed in U.S. Patent No. 6,301,775, entitled “Alumina Encapsulated Strain Gage, Not Mechanically Attached to the Substrate, Used to Temperature Compensate an Active High Temperature Gage in a Half-Bridge Configuration,” which is assigned to the United States of America as represented by the Administrator of the National Aeronautics and Space Administration. Written objections to the prospective grant of a license should be sent to the NASA Management Office—JPL.

DATES: Responses to this notice must be received by March 4, 2002.

FOR FURTHER INFORMATION CONTACT: Patent Counsel, NASA Management Office—JPL, 4800 Oak Grove Drive, Mail Station 180-802, Pasadena, CA 91109-8099.

Dated: February 8, 2002.
Robert M. Stephens,
Deputy General Counsel.

[FR Doc. 02-3684 Filed 2-14-02; 8:45 am]

BILLING CODE 7510-01-P